DEPARTMENT OF DEFENSE

Office of the Secretary

32 CFR Part 101

[Docket ID: DOD-2018-OS-0070]

RIN 0790-AK29

Participation in Reserve Training Programs

AGENCY: Under Secretary of Defense (Personnel and Readiness), DoD.

ACTION: Final rule.

SUMMARY: This final rule removes DoD's regulation which contains internal policy regarding criteria and training requirements for satisfactory participation by members of the Reserve components of the U.S. Armed Forces, and uniform DoD policy for training members of such Reserve components who may be temporarily residing in sovereign foreign nations. This part is internal, has not been updated since 1979, and is obsolete. Current internal procedures will continue to be maintained and updated in a DoD issuance.

DATES: This rule is effective on February 1, 2019.

FOR FURTHER INFORMATION CONTACT: Colonel David Feeley, (703) 693-2195 or david.c.feeley.mil@mail.mil.

SUPPLEMENTARY INFORMATION: It has been determined that publication of this CFR part removal for public comment is impracticable, unnecessary, and contrary to public interest since it is based on removing DoD internal policies and procedures that are publicly available on the Department's issuance website. DoD Instruction 1215.13, “Ready Reserve Member Participation Policy,” most recently updated in 2015, is the governing DoD policy (available at: http://www.esd.whs.mil/Portals/54/Documents/DD/issuances/dodi/121513p.pdf).

Because this rule is not significant under Executive Order (E.O.) 12866, “Regulatory Planning and Review,” the requirements of E.O. 13771, “Reducing Regulation and Controlling Regulatory Costs,” do not apply.

List of Subjects in 32 CFR Part 101

Armed forces reserves.

PART 101—[REMOVED]

Accordingly, by the authority of 5 U.S.C. 301, 32 CFR part 101 is removed.

Dated: January 28, 2019.
Aaron T. Siegel,
Alternate OSD Federal Register Liaison Officer, Department of Defense.

[FR Doc. 2019-00449 Filed 1-31-19; 8:45 am]

BILLING CODE 5001-06-P